DEPARTMENT OF THE INTERIOR

National Park Service

[NPS-WASO-NAGPRA-22426; PPWOCRADN0-PCU00RP14.R50000]

Notice of Inventory Completion: U.S. Department of the Interior, Bureau of Indian Affairs, Washington, DC, and Arizona State Museum, University of Arizona, Tucson, AZ

AGENCY: National Park Service, Interior.

ACTION: Notice.

SUMMARY: The United States Department of Interior, Bureau of Indian Affairs, and the Arizona State Museum, University of Arizona, have completed an inventory of human remains, in consultation with the appropriate Indian tribes or Native Hawaiian organizations, and has determined that there is no cultural affiliation between the human remains and any present-day Indian tribes or Native Hawaiian organizations. Representatives of any Indian tribe or Native Hawaiian organization not identified in this notice that wish to request transfer of control of these human remains should submit a written request to the Arizona State Museum, University of Arizona. If no additional requestors come forward, transfer of control of the human remains to the Indian tribes or Native Hawaiian organizations stated in this notice may proceed.

DATES: Representatives of any Indian tribe or Native Hawaiian organization not identified in this notice that wish to request transfer of control of these human remains should submit a written request with information in support of the request to the Arizona State Museum, University of Arizona at the address in this notice by January 3, 2017.

ADDRESSES: John McClelland, NAGPRA Coordinator, P.O. Box 210026, Arizona State Museum, University of Arizona, Tucson, AZ 85721, telephone (520) 626-2950.

SUPPLEMENTARY INFORMATION: Notice is here given in accordance with the Native American Graves Protection and Repatriation Act (NAGPRA), 25 U.S.C. 3003, of the completion of an inventory of human remains under the control of the U.S. Department of the Interior, Bureau of Indian Affairs, Washington, DC, and in the physical custody of the Arizona State Museum, University of Arizona, Tucson, AZ (ASM). The human remains were removed from locations within the boundaries of the Fort Apache Indian Reservation, Apache, Gila and Navajo Counties, AZ.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the ASM professional staff in consultation with representatives of the Hopi Tribe of Arizona; White Mountain Apache Tribe of the Fort Apache Indian Reservation, Arizona; and the Zuni Tribe of the Zuni Reservation, New Mexico.

History and Description of the Remains

On an unknown date, human remains representing, at minimum, 1 individual were removed from an unknown location (AZ White Mountains) in Apache, Gila, or Navajo County, AZ. On an unknown date, the human remains were given by an unknown donor to Mrs. Minnie Guenther, then resident on the Fort Apache Indian Reservation. Although the exact location of the discovery is unknown, it is very likely that the human remains were obtained somewhere within the boundaries of the reservation. In the 1970s, the human remains were donated to the Arizona State Museum. No known individuals were identified. No associated funerary objects are present.

On an unknown date, fragmentary human remains representing, at minimum, 5 individuals were removed from a cave (AZ W:1:—East Fork) on the East Fork of the White River, several miles above Fort Apache, on the Fort Apache Indian Reservation in Navajo County, AZ. Although the circumstances of discovery and the date of removal are unknown, the human remains were found with a collection that was obtained during excavations conducted by the University of Arizona from 1931 to 1936 under the direction of Byron Cummings at Kinishba, AZ V:4:1(ASM). The collections were accessioned by the Arizona State Museum in 1936. No known individuals were identified. No associated funerary objects are present.

The cave is described as having both Ancestral Pueblo and Apache components. Since the archaeological context of the human remains is unknown, it is not possible to determine which cultural component they were associated with.

Determinations Made by the U.S. Department of the Interior, Bureau of Indian Affairs, Washington, DC, and the Arizona State Museum, University of Arizona, Tucson, AZ

Officials of the Bureau of Indian Affairs and Arizona State Museum have determined that:

• Pursuant to 25 U.S.C. 3001(9), the human remains described in this notice are Native American based on the physical condition of the human remains and the reported archeological components represented at the cave.

• Pursuant to 25 U.S.C. 3001(9), the human remains described in this notice represent the physical remains of 6 individuals of Native American ancestry.

• Pursuant to 25 U.S.C. 3001(2), a relationship of shared group identity cannot be reasonably traced between the Native American human remains and any present-day Indian tribe.

• Pursuant to 25 U.S.C. 3001 (15), the land from which the Native American human remains were removed is the tribal land of the White Mountain Apache Tribe of the Fort Apache Indian Reservation, Arizona.

• Pursuant to 43 CFR 10.11(c)(1), the disposition of the human remains may be to the White Mountain Apache Tribe of the Fort Apache Indian Reservation, Arizona.

Additional Requestors and Disposition

Lineal descendants or representatives of any Indian tribe or Native Hawaiian organization not identified in this notice that wish to request transfer of control of these human remains and associated funerary objects should submit a written request with information in support of the request to John McClelland, NAGPRA Coordinator, P.O. Box 210026, Arizona State Museum, University of Arizona, Tucson, AZ 85721, telephone (520) 626-2950, by January 3, 2017. After that date, if no additional requestors have come forward, transfer of control of the human remains and associated funerary objects to the White Mountain Apache Tribe of the Fort Apache Indian Reservation, Arizona, may proceed.

The Arizona State Museum is responsible for notifying the Hopi Tribe of Arizona; White Mountain Apache Tribe of the Fort Apache Indian Reservation, Arizona; and the Zuni Tribe of the Zuni Reservation, New Mexico that this notice has been published.

Dated: November 15, 2016.
Melanie O'Brien,
Manager, National NAGPRA Program.

[FR Doc. 2016-28944 Filed 12-1-16; 8:45 am]

BILLING CODE 4312-52-P